DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission

DATE AND TIME: October 15, 2015 10 a.m.

PLACE: Room 2C, 888 First Street NE., Washington, DC 20426.

STATUS: Open

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1020th—Meeting
[Regular meeting; October 15, 2015—10 a.m.]
Item No. | Docket No. | Company
Administrative
A-1 | AD16-1-000 | Agency Administrative Matters—Federal Employee Viewpoint Survey Results.
A-2 | AD16-7-000 | Customer Matters, Reliability, Security and Market Operations.
A-3 | AD06-3-000 | 2015-2016 Winter Energy Market Assessment.
Electric
E-1 | RM14-14-000 | Refinements to Policies and Procedures for Market-Based Rates for Wholesale Sales of Electric Energy, Capacity and Ancillary Services by Public Utilities.
E-2 | EL13-76-001, EL13-76-002, EL13-76-003 | AmerenEnergy Resources Generating Company v. Midcontinent Independent System Operator, Inc.
| ER15-368-001, ER15-346-001, ER14-2605-000, ER14-2605-001, ER13-1962-002, ER13-1962-003, ER13-1962-004, ER13-1963-003, ER13-1963-004, ER13-1963-005, ER14-1210-001, ER14-1210-002, ER14-1210-003, ER14-1210-004, ER14-1212-002, ER14-1212-003, ER14-1212-004, EL14-53-001, EL14-53-002, EL14-53-003 | Midcontinent Independent System Operator, Inc.,
| ER14-2619-001, ER14-2619-002, ER14-2718-001 | Illinois Power Marketing Company.
E-3 | ER10-2302-005 | Public Service Company of New Mexico.
E-4 | ER14-2850-001, ER14-2851-001 | Southwest Power Pool, Inc.
E-5 | ER13-535-002, ER13-535-003 | PJM Interconnection, L.L.C.
E-6 | OMITTED |
E-7 | OMITTED |
E-8 | ER12-678-005 | Midwest Independent Transmission System Operator, Inc.
E-9 | RM14-11-001 | Open Access and Priority Rights on Interconnection Customer's Interconnection Facilities.
E-10 | OMITTED |
E-11 | RR15-4-001 | North American Electric Reliability Corporation.
E-12 | EL15-81-000 | Bloom Energy Corporation.
E-13 | EL15-66-000, EL15-77-000 | Southern Company Services, Inc. KCP&L Greater Missouri Operations Company.,The Empire District Electric Company, and Associated Electric Cooperative, Inc. v. Midcontinent Independent System Operator, Inc. Morgan Stanley Capital Group, Inc. v. Midcontinent Independent System Operator, Inc.
E-14 | EL15-52-001, QF13-403-003 | Winding Creek Solar LLC.
E-15 | EL15-43-001 | Delta-Montrose Electric Association.
E-16 | ER14-2022-001 | Midcontinent Independent System Operator, Inc.
E-17 | ER15-943-002, ER15-948-001, ER15-943-001, (consolidated), ER15-946-001 (not consolidated), | Midcontinent Independent System Operator, Inc., Illinois Power Marketing Company Midcontinent Independent System Operator, Inc.
E-18 | ER15-1047-003 | R.E. Ginna Nuclear Power Plant, LLC.
E-19 | ER15-1826-000 | Entergy Services, Inc.
E-20 | EL01-88-013 | Louisiana Public Service Commission v. Entergy Services, Inc.
E-21 | EL01-88-012 | Louisiana Public Service Commission v. Entergy Services, Inc.
E-22 | EL01-88-011 | Louisiana Public Service Commission v. Entergy Services, Inc.
E-23 | ER14-2940-001, ER14-2940-002 | PJM Interconnection, L.L.C.
E-24 | EC10-85-002 | Fore River Development, LLC, Mystic I, LLC, Mystic Development, LLC, Boston Generating, LLC, Constellation Mystic Power, LLC.
E-25 | EL12-53-001 | Seminole Electric Cooperative, Inc. v. Florida Power & Light Company.
E-26 | EL15-44-000 | Sage Grouse Energy Project, LLC v. PacifiCorp.
E-27 | EL15-46-000 | Champion Energy Marketing LLC v. PJM Interconnection, L.L.C. and PJM Settlement, Inc.
Miscellaneous
M-1 | RM14-2-002 | Coordination of the Scheduling Processes of Interstate Natural Gas Pipelines and Public Utilities.
Gas
G-1 | RM96-1-038, RM14-2-003 | Standards for Business Practices of Interstate Natural Gas Pipelines, Coordination of the Scheduling Processes of Interstate Natural Gas Pipelines and Public Utilities.
G-2 | RP13-751-001, RP13-751-000 | Algonquin Gas Transmission, LLC.
G-3 | RP15-23-000, RP15-23-003, RP15-23-007 | Transwestern Pipeline Company, LLC.
G-4 | RP15-1089-000 | Rice Energy Marketing LLC.
G-5 | RP12-479-000 | ANR Storage Company.
G-6 | RP15-138-000, RP15-138-001 | Great Lakes Gas Transmission Limited Partnership.
| RP15-139-000, RP15-139-001 | ANR Pipeline Company.
| RP13-743-000, RP13-743-001, RP13-743-002, RP13-743-003 (consolidated) | ANR Pipeline Company.
| RP14-650-000, RP14-650-001, RP15-785-000 (not consolidated) | ANR Pipeline Company.
Hydro
H-1 | RM15-18-000 | Commencement of Assessment of Annual Charges.
H-2 | P-4093-037 | PK Ventures I Limited Partnership.
H-3 | P-13123-003 | Eagle Crest Energy Company.
H-4 | P-2206-048 | Duke Energy Progress, Inc.
Certificates
C-1 | CP15-161-000 | Roadrunner Gas Transmission, LLC.
C-2 | CP15-160-000 | Columbia Gas Transmission, LLC, KO Transmission Company.
C-3 | CP15-272-000 | Regency Field Services LLC.
C-4 | CP14-503-001 | Enable Gas Transmission, LLC.

Dated: October 8, 2015.
Kimberly D. Bose,
Secretary.

A free webcast of this event is available through www.ferc.gov. Anyone with Internet access who desires to view this event can do so by navigating to www.ferc.gov's Calendar of Events and locating this event in the Calendar.

The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2015-26184 Filed 10-9-15; 11:15 am]

BILLING CODE 6717-01-P